DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT: OFAC: Associate Director for Global Targeting, tel.: 202/622-2420, Assistant Director for Sanctions Compliance & Evaluation, tel.: 202/622-2490, Assistant Director for Licensing, tel.: 202/622-2480; or the Department of the Treasury's Office of the General Counsel: Office of the Chief Counsel (Foreign Assets Control), tel.: 202/622-2410 (not toll free numbers).

SUPPLEMENTARY INFORMATION:

Electronic Availability

The Specially Designated Nationals and Blocked Persons List and additional information concerning OFAC sanctions programs are available from OFAC's website (www.treasury.gov/ofac).

Notice of OFAC Actions

On December 13, 2017, OFAC's Director determined that the property and interests in property subject to U.S. jurisdiction of the following persons are blocked pursuant to the relevant sanctions authorities listed below:

Individuals

1. LUKWANG, Okot (a.k.a. LUKWONG, Okot; a.k.a. LOKWANG, Okot; a.k.a. LUKWENG, Okot), Songo, Kafia Kingi; Central African Republic; DOB 1975; alt. DOB 1974; alt. DOB 1976; alt. DOB 1981; alt. DOB 1982; alt. DOB 1980; POB Palabek, Uganda; alt. POB Padibe Lamwu District, Uganda; nationality Uganda; (individual) [CAR].

Designated pursuant to section 1(a)(ii)(E) of Executive Order 13667 of May 12, 2014, “Blocking Property of Certain Persons Contributing to the Conflict in the Central African Republic” (E.O. 13667) for being owned or controlled by, or having acted or purported to act for or on behalf of, directly or indirectly, the Lord's Resistance Army, an entity whose property and interests in property are blocked pursuant to E.O. 13667.

2. HATARI, Musa (a.k.a. ATARI, Musah; a.k.a. ATAR, Mussa; a.k.a. TAHIR, Musa; a.k.a. TARAH, Musah; a.k.a. TARAK, Musah; a.k.a. TARK, Musa; a.k.a. MUSA, Atari), Songo, Kafia Kingi; DOB 1965; alt. DOB 1964; alt. DOB 1966; nationality Sudan; (individual) [CAR].

Designated pursuant to section 1(a)(ii)(D) of E.O. 13667 for having materially assisted, sponsored, or provided financial, material, logistical, or technological support for, or goods or services in support of, the Lord's Resistance Army, an entity whose property and interests in property are blocked pursuant to E.O. 13667.

Dated: December 13, 2017.
John E. Smith,
Director, Office of Foreign Assets Control.

[FR Doc. 2017-27245 Filed 12-18-17; 8:45 am]

BILLING CODE 4810-AL-P